DEPARTMENT OF THE TREASURY

Submission for OMB Review; Comment Request

April 6, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 13, 2004 to be assured of consideration.

Internal Revenue Service (IRS)

OMB Number: 1545-0056.

Form Number: IRS Forms 1023 and 872-C.

Type of Review: Extension.

Title:

Form 1023: Application for Recognition of Exemption Under section 501(c)(3) of the Internal Revenue Code; and

Form 872-C: Consent Fixing Period of Limitation upon Assessment of Tax Under section 4940 of the Internal Revenue Code.

Description: Form 1023 is filed by applicants seeking Federal income tax exemption as organizations described in section 501(c)(3). IRS uses the information to determine if the applicant is exempt and whether the applicant is a private foundation. Form 872-C extends the statute of limitations for assessing tax under section 4940.

Respondents: Not-for-profit institutions.

Estimated Number of Respondents/Recordkeepers: 29,409.

Estimated Burden Hours Respondent/Recordkeeper:

Form | Recordkeeping | Learning about the law or the form | Preparing and sending the form to the IRS
1023 Parts I to IV | 55 hr., 43 min | 5 hr., 00 min | 8 hr., 32 min.
1023 Schedule A | 7 hr., 10 min | 00 min | 7 min.
1023 Schedule B | 4 hr., 46 min | 30 min | 36 min.
1023 Schedule C | 5 hr., 1 min | 35 min | 42 min.
1023 Schedule D | 4 hr., 4 min | 42 min | 47 min.
1023 Schedule E | 9 hr., 19 min | 1 hr., 5 min | 1 hr., 17 min.
1023 Schedule F | 2 hr., 37 min | 2 hr., 52 min | 3 hr., 3 min.
1023 Schedule G | 2 hr., 37 min | 00 min | 2 min.
1023 Schedule H | 1 hr., 54 min | 42 min | 45 min.
1023 Schedule I | 3 hr., 35 min | 00 min | 3 min.
872-C | 1 hr., 25 min | 24 min | 25 min.

Frequency of response: On occasion.

Estimated Total Reporting/Recordkeeping Burden: 2,069,267 hours.

OMB Number: 1545-0704.

Form Number: IRS Form 5471 and related Schedules.

Type of Review: Revision.

Title: Information Return of U.S. Persons with Respect to Certain Foreign Corporations.

Description: Form 5471 and related schedules are used by U.S. persons that have an interest in a foreign corporation. The form is used to report income from the foreign corporation. The form and schedules are used to satisfy the reporting requirements of sections 6035, 6038 and 6046 and the regulations thereunder pertaining to the involvement of U.S. persons with certain foreign corporations.

Respondents: Business or other for-profit, Individuals or households.

Estimated Number of Respondents/Recordkeepers: 43,000.

Estimated Burden Hours Respondent/Recordkeeper:

Form | Recordkeeping | Learning abouth the law or the form | Preparing and sending the form to the IRS
5471 | 82 hr., 45 min | 16 hr., 14 min | 24 hr., 17 min.
Schedule J (Form 5471) | 3 hr., 49 min | 1 hr., 29 min | 1 hr., 37 min.
Schedule M (Form 5471) | 26 hr., 33 min | 6 min | 32 min.
Schedule N (Form 5471) | 8 hr., 22 min | 2 hr., 28 min | 2 hr., 43 min.
Schedule O (Form 5471) | 10 hr., 45 min | 24 min | 35 min.

Frequency of response: Annually.

Estimated Total Reporting/Recordkeeping Burden: 6,700,035 hours.

OMB Number: 1545-0720.

Form Number: IRS Forms 8038, 8038-G, and 8038-GC.

Type of Review: Revision.

Title: Form 8038: Information Return for Tax-Exempt Private Activity Bond Issues;

Form 8038-G: Information Return for Tax-Exempt Governmental Obligation; and

Form 8038-GC: Information Return for Small Tax-Exempt Governmental Bond Issues, Leases, and Installment Sales

Description: Forms 8038, 8038-G, and 8038-GC collect the information that IRS is required to collect by Code section 149(e). IRS uses the information to assure that tax-exempt bonds are issued consistent with the rules of Internal Revenue Code (IRC) sections 141-149.

Respondents: State, local or tribal government, not-for-profit institutions

Estimated Number of Respondents/Recordkeepers: 3,816.

Estimated Burden Hours Respondent/Recordkeeper:

Form | Learning about the law or the form | Preparing the form | Copying, assembling, and sending the form to the IRS
8038 | 10 hr., 35 min | 12 hr., 27 min | 16 min.
8038-G | 2 hr., 52 min | 3 hr., 15 min | 00 min.
8038-GC | 2 hr., 22 min | 2 hr., 34 min | 00 min.

Frequency of response: Quarterly, Annually, Other (8038-GC at least once every 5 years).

Estimated Total Reporting/Recordkeeping Burden: 293,900 hours.

OMB Number: 1545-0908.

Form Number: IRS Forms 8282 and 8283.

Type of Review: Revision.

Title: Form 8282: Donee Information Return (Sale, Exchange or Other Disposition of Donated Property); and

Form 8283: Noncash Charitable Contributions.

Description: Internal Revenue Code section 170(a)(1) and regulation section 1.170A-13(c) require donors of property valued over $5,000 to file certain information with their tax return in order to receive the charitable contribution deduction. Form 8283 is sued to report the required information. Code section 6050L requires donee organizations to file an information return with the IRS if they dispose of the property received within two years. Form 8282 is used for this purpose.

Respondents: Individuals or households, Business or other for-profit.

Estimated Number of Respondents/Recordkeepers: 4,718,000.

Estimated Burden Hours Respondent/Recordkeeper:

Recordkeeping | 3 hr., 35 min.
Learning about the law or the form | 12 min.
Preparing and sending the form to the IRS | 15 min.

Frequency of response: Annually.

Estimated Total Reporting/Recordkeeping Burden: 9,485,220 hours.

OMB Number: 1545-1603.

Regulation Project Number: REG-104691-97 Final.

Type of Review: Extension.

Title: Electronic Tip Report.

Description: The regulations provide rules authorizing employers to establish electronic systems for use by their tipped employees in reporting tips to their employer. The information will be used by employers to determine the amount of income tax and FICA tax to withhold from the tipped employee's wages.

Respondents: Business or other for-profit, Individuals or households.

Estimated Number of Respondents/Recordkeepers: 300,000.

Estimated Burden Hours Respondent/Recordkeeper: 2 hours

Frequency of response: On occasion.

Estimated Total Reporting/Recordkeeping Burden: 600,000 hours.

OMB Number: 1545-1668.

Form Number: IRS Form 8865 and Schedules.

Type of Review: Extension.

Title: Return of U.S. Persons With Respect to Certain Foreign Partnerships.

Description: The Taxpayer Relief Act of 1997 significantly modified the information reporting requirements with respect to foreign partnerships. The Act made the following three changes: (1) Expanded section 6038B to require U.S. persons transferring property to foreign partnerships in certain transactions to report those transfers; (2) expanded section 6038 to require certain U.S. Partners of controlled foreign partnerships to report information about the partnerships; and (3) modified the reporting required under section 6046A with respect to acquisitions and dispositions of foreign partnership interests. Form 8865 is used by U.S. persons to fulfill their reporting obligations under sections 6038B, 6038, and 6046A.

Respondents: Business or other for-profit, Individuals or households, Not-for-profit institutions.

Estimated Number of Respondents/Recordkeepers: 5,000.

Estimated Burden Hours Respondent/Recordkeeper:

Form | Recordkeeping | Learning about the law or the form | Preparing, copying, assembling and sending the form to the IRS
8865 | 98 hr., 55 min | 22 hr., 38 min | 36 hr., 22 min.
Schedule K-1 (Form 8865) | 31 hr., 4 min | 10 hr., 3 min | 18 hr., 10 min.
Schedule O (Form 8865) | 13 hr., 9 min | 2 hr., 22 min | 2 hr., 42 min.
Schedule P (Form 8865) | 5 hr., 15 min | 30 min | 36 min.

Frequency of response: Annually.

Estimated Total Reporting/Recordkeeping Burden: 458,510 hours.

OMB Number: 1545-1733.

Form Number: IRS Form 720-CS.

Type of Review: Extension.

Title: Carrier Summary Report.

Description: Representatives of the motor fuel industry, state governments, and the Federal government are working to ensure compliance with excise taxes on motor fuels. This joint effort has resulted in a system to track the movement of all products to and from terminals. Form 720-CS is an information return that will be used by carriers to report their monthly deliveries and receipts of products to and from terminals.

Respondents: Business or other for-profit.

Estimated Number of Respondents/Recordkeepers: 475.

Estimated Burden Hours Respondent/Recordkeeper:

Recordkeeping | 14 hr., 21 min.
Learning about the law or the form | 30 min.
Preparing and sending the form to the IRS | 45 min.

Frequency of response: Monthly.

Estimated Total Reporting/Recordkeeping Burden: 183,027 hours.

OMB Number: 1545-1734.

Form Number: IRS Form 720-TO.

Type of Review: Extension.

Title: Terminal Operator Report.

Description: Representatives of the motor fuel industry, state governments, and the Federal government are working to ensure compliance with excise taxes on motor fuels. This joint effort has resulted in a system to track the movement of all products to and from terminals. Form 720-TO is an information return that will be used by terminal operators to report their monthly receipts and disbursements of products.

Respondents: Business or other for-profit.

Estimated Number of Respondents/Recordkeepers: 1,500.

Estimated Burden Hours Respondent/Recordkeeper:

Recordkeeping | 19 hr., 21 min.
Learning about the law or the form | 30 min.
Preparing and sending the form to the IRS | 49 min.

Frequency of response: Monthly.

Estimated Total Reporting/Recordkeeping Burden: 2,347,020 hours.

OMB Number: 1545-1735.

Revenue Procedure Number: Revenue Procedure 2001-20.

Type of Review: Extension.

Title: Voluntary Compliance on Alien Withholding Program (“VCAP”).

Description:The revenue procedure will improve voluntary compliance of colleges and universities in connection with their obligations to report, withhold and pay taxes due on compensation paid to foreign students and scholars (nonresident aliens). The revenue procedure provides an optional opportunity for colleges and universities which have not fully complied with their tax obligations concerning nonresident aliens to self-audit and come into compliance with applicable reporting and payment requirements.

Respondents: Not-for-profit institutions, State, local or tribal government.

Estimated Number of Respondents/Recordkeepers: 495.

Estimated Burden Hours Respondent/Recordkeeper: 700 hours.

Frequency of response: On occasion.

Estimated Total Reporting/Recordkeeping Burden: 346,500 hours.

OMB Number: 1545-1862.

Form Number: IRS Form 8316.

Type of Review: Extension.

Title: Information Regarding Request for Refund of Social Security Tax Erroneously Withheld on Wages Received by a Nonresident alien on an F, J, or M Type Visa.

Description: Form 8316 is requested from nonresident alien taxpayers claiming a refund of Social Security tax erroneously withheld on wages received.

Respondents: Individuals or households.

Estimated Number of Respondents/Recordkeepers: 22,000.

Estimated Burden Hours Respondent/Recordkeeper: 15 minutes.

Frequency of response: On occasion.

Estimated Total Reporting/Recordkeeping Burden: 5,500 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-8261 Filed 4-12-04; 8:45 am]

BILLING CODE 4830-01-P